NUCLEAR REGULATORY COMMISSION

10 CFR Parts 50, 72, and 73

RIN 3150-AG63

Power Reactor Security Requirements; Extension of Comment Period

AGENCY: Nuclear Regulatory Commission.

ACTION: Proposed rule; extension of comment period.

SUMMARY: On October 26, 2006 (71 FR 62664), the Nuclear Regulatory Commission (NRC) published for public comment a proposed rule that would amend its current security regulations and would add new security requirements pertaining to nuclear power reactors. Additionally, this rulemaking includes new proposed security requirements for Category I strategic special nuclear material (SSNM) facilities for access to enhanced weapons and firearms background checks. The proposed rulemaking would: Make generically applicable security requirements imposed by Commission orders issued after the terrorist attacks of September 11, 2001, based upon experience and insights gained by the Commission during implementation; fulfill certain provisions of the Energy Policy Act of 2005; add several new requirements that resulted from insights from implementation of the security orders, review of site security plans, and implementation of the enhanced baseline inspection program and force-on-force exercises; update the regulatory framework in preparation for receiving license applications for new reactors; and impose requirements to assess and manage site activities that can adversely affect safety and security. A 75-day comment period was provided for the propose rule, set to expire on January 9, 2007. Comments specific to the information collection aspects of the proposed rule were due on November 27, 2006.

The proposed rule deadline is extended from the original January 9, 2007, deadline to February 23, 2007, and the information collections analysis deadline is extended from the original November 27, 2006 deadline to January 11, 2007.

DATES: The comment period for the proposed rule has been extended and now expires on February 23, 2007. The comment period for the information collection aspects of this proposed rulemaking has been extended and now expires on January 11, 2007. Comments received after this date will be considered if it is practical to do so, but the Commission is able to ensure consideration only for comments received before this date.

ADDRESSES: Mail written comments to: Secretary, U.S. Nuclear Regulatory Commission, Washington, DC 20555-0001, ATTN: Rulemakings and Adjudications Staff.

Hand delivered comments should also be addressed to the Secretary, U.S. Nuclear Regulatory Commission, and delivered to 11555 Rockville Pike, Rockville, MD, between 7:30 a.m. and 4:15 p.m. Federal workdays.

You may also provide comments via the NRC's interactive rulemaking Web site: http://ruleforum.llnl.gov. This site also provides the availability to upload comments as files (any format), if your web browser supports that function. For information about the interactive rulemaking site, contact Ms. Carol Gallagher, (301) 415-5905; e-mail: CAG@nrc.gov.

Certain documents relating to this rulemaking, including comments received, may be examined at the NRC Public Document Room, 11555 Rockville Pike, Room O1-F21, Rockville, MD. The same documents may also be viewed and downloaded electronically via the rulemaking Web site: http://ruleforum.llnl.gov. Documents created or received at the NRC after November 1, 1999 are also available electronically at the NRC's Public Electronic Reading room on the Internet at http://www.nrc.gov/NRC/ADAMS/index.html. From this site, the public can gain entry into the NRC's Agencywide Document Access and Management System (ADAMS), which provides text and image files of NRC's public documents. For more information, contact the NRC Public Document Room (PDR) Reference staff at 1-800-397-4209, 202-634-3273 or by e-mail to pdr@nrc.gov.

FOR FURTHER INFORMATION CONTACT: Mr. Richard Rasmussen, Office of Nuclear Security and Incident Response, U.S. Nuclear Regulatory Commission, Washington, DC 20555-0001; telephone (301) 415-0610; e-mail: RAR@nrc.gov or Mr. Timothy Reed, Office of Nuclear Reactor Regulation, U.S. Nuclear Regulatory Commission, Washington, DC 20555-0001; telephone (301) 415-1462; e-mail: TAR@nrc.gov.

SUPPLEMENTARY INFORMATION: During a public meeting held on November 15, 2006, the State of Pennsylvania and the Nuclear Energy Institute (NEI) requested that the comment period for the proposed rulemaking be extended by 45 days. Subsequently, on November 17, 2006, the NEI provided a written request to NRC for a 60-day extension to the public comment period for both the proposed rulemaking and the information collection aspects of the rulemaking. NEI stated four reasons to support their request (listed below):

(1) There are two major holidays during the comment period;

(2) This is a major and complex rulemaking as evidenced by the sheer volume of the rulemaking package (SECY-06-0126 exceeds 1000 pages);

(3) Since June 2006, NEI has been engaged in the development of NEI 06-12, “B.5.b Phase 2&3 Submittal Guideline” which licensees will use to respond to the NRC site-specific Phase 3 letters. Licensee responses are due in early January 2007; and,

(4) Comments on the proposed § 73.21 rulemaking are due January 2, 2007.

In view of the NRC's desire to receive high quality comments from external stakeholders, and recognizing the extenuating circumstances that adversely impact the capability of external stakeholders to comment on the proposed rulemaking given ongoing activities which are competing for the same industry resources, the comment period, for both the proposed rulemaking and for the information collections analysis, will be extended for an additional 45 days. This partial grant of the request from both NEI and the State of Pennsylvania recognizes that the power reactor security requirements impact new reactor applications, and it is the NRC's objective to not adversely impact new reactor applications which are scheduled to be submitted in late 2007.

Dated at Rockville, Maryland, this 27th day of December 2006.
For the Nuclear Regulatory Commission.
Annette L. Vietti-Cook,
Secretary of the Commission.

[FR Doc. E6-22581 Filed 1-4-07; 8:45 am]

BILLING CODE 7590-01-P